DEPARTMENT OF ENERGY

Federal Energy Regulatory Commission

[Project No. 77-282]

Pacific Gas and Electric Company; Notice of Application Accepted for Filing, Soliciting Comments, Motions To Intervene, and Protests

Take notice that the following hydroelectric application has been filed with the Commission and is available for public inspection:

a. Type of Application: Application for Temporary Variance of Minimum Flow Requirements.

b. Project No.: 77-282.

c. Date Filed: July 6, 2016.

d. Applicant: Pacific Gas and Electric Company (licensee).

e. Name of Project: Potter Valley Project.

f. Location: Eel River and East Fork Russian River in Lake and Mendocino Counties, California.

g. Filed Pursuant to: Federal Power Act, 16 U.S.C. 791(a)-825(r).

h. Applicant Contact: Ms. Elizabeth Rossi, Senior License Coordinator, Pacific Gas and Electric Company, Mail Code: N13E, P.O. Box 770000, San Francisco, CA 94177, Phone: (415) 973-2032.

i. FERC Contact: Mr. John Aedo, (415) 369-3335, or john.aedo@ferc.gov.

j. Deadline for filing comments, motions to intervene, protests, and recommendations is 30 days from the issuance date of this notice by the Commission (August 15, 2016). The Commission strongly encourages electronic filing. Please file motions to intervene, protests, comments, or recommendations using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. Please include the project number (P-77-282) on any comments, motions to intervene, protests, or recommendations filed.

k. Description of Request: The licensee requests a temporary variance of the minimum flow requirements in the Eel River below Scott Dam and the East Branch of the Russian River. The licensee explains that Lake Pillsbury only filled to 80 percent this year due to: Dry spring conditions; the April 1, 2016 closure schedule of the spillway gates for dam safety purposes; and minimum and supplemental flow releases. Therefore, in order to conserve water resources, ensure that adequate water is available for minimum flow releases and regular water deliveries later in the year, and avoid Lake Pillsbury bank sloughing and water turbidity, the licensee proposes to reduce minimum flow releases at the project. Specifically, the licensee proposes to reduce flows in the Eel River below Scott Dam from the required 60 cubic feet per second (cfs) normal year requirement to the 20 cfs critical year requirement. The licensee would also reduce minimum flows in the East Branch Russian River from the 75 cfs normal year requirement to the 25 cfs dry year requirement, and possibly the 5 cfs critical year requirement, depending on storage conditions and in consultation with the resource agencies and stakeholders. In conjunction with the proposed variance, the licensee proposes to provide no more than 50 cfs to the Potter Valley Irrigation District (PVID) through the East Branch Russian River.

The licensee also proposes to establish a Potter Valley Drought Working Group, comprised of the resource agencies and stakeholders, which would meet twice monthly during the variance to determine appropriate release levels within the framework of the proposed variance. The licensee requests that once a flow is established, that a 24-hour average flow be used as the compliance criteria for the corresponding compliance point. Finally, the licensee proposes to file monthly compliance reports with the Commission, and to provide bi-monthly email reports to the resource agencies and stakeholders.

l. Locations of the Application: A copy of the application is available for inspection and reproduction at the Commission's Public Reference Room, located at 888 First Street NE., Room 2A, Washington, DC 20426, or by calling (202) 502-8371. This filing may also be viewed on the Commission's Web site at http://www.ferc.gov/docs-filing/elibrary.asp. Enter the docket number excluding the last three digits in the docket number field to access the document. You may also register online at http://www.ferc.gov/docs-filing/esubscription.asp to be notified via email of new filings and issuances related to this or other pending projects. For assistance, call 1-866-208-3676 or email FERCOnlineSupport@ferc.gov, for TTY, call (202) 502-8659. A copy is also available for inspection and reproduction at the address in item (h) above.

m. Individuals desiring to be included on the Commission's mailing list should so indicate by writing to the Secretary of the Commission.

n. Comments, Protests, or Motions To Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents: Any filing must (1) bear in all capital letters the title “COMMENTS”, “PROTEST”, or “MOTION TO INTERVENE” as applicable; (2) set forth in the heading the name of the applicant and the project number of the application to which the filing responds; (3) furnish the name, address, and telephone number of the person protesting or intervening; and (4) otherwise comply with the requirements of 18 CFR 385.2001 through 385.2005. All comments, motions to intervene, or protests must set forth their evidentiary basis and otherwise comply with the requirements of 18 CFR 4.34(b). All comments, motions to intervene, or protests should relate to project works which are the subject of proposed action. Agencies may obtain copies of the application directly from the applicant. A copy of any protest or motion to intervene must be served upon each representative of the applicant specified in the particular application. If an intervener files comments or documents with the Commission relating to the merits of an issue that may affect the responsibilities of a particular resource agency, they must also serve a copy of the document on that resource agency. A copy of all other filings in reference to this application must be accompanied by proof of service on all persons listed in the service list prepared by the Commission in this proceeding, in accordance with 18 CFR 4.34(b) and 385.2010.

Dated: July 15, 2016.
Kimberly D. Bose,
Secretary.

[FR Doc. 2016-17220 Filed 7-20-16; 8:45 am]

BILLING CODE 6717-01-P